DEPARTMENT OF COMMERCE

National Oceanic and Atmospheric Administration

[FR Doc. 2016-00018, Filed 01/06/16; 8:45 a.m.]

Interagency Working Group on the Harmful Algal Bloom and Hypoxia Research and Control Amendments Act Great Lakes Webinars; Correction

AGENCY: National Ocean Service, National Oceanic and Atmospheric Administration (NOAA), Commerce.

ACTION: Notice; correction.

SUMMARY: The National Oceanic and Atmospheric Administration published a document in the Federal Register of January 7, 2016, entitled Interagency Working Group on the Harmful Algal Bloom and Hypoxia Research and Control Amendments Act. The information concerning the webinar dates and WebEx information have been updated.

DATES: Date, Time, and Webex Information: The updated information for the webinars are as follows:

Meeting dates:

• HAB and Hypoxia Experts, and Interested Parties—February 9, 2016, 2:00 p.m.-3:00 p.m. EST

• Interested Parties—February 10, 2016, 1:00 p.m.-2:00 p.m. EST

• Interested Parties (as needed)—February 11, 2016, 1:00 p.m.-2:00 p.m. EST

The webinars will be available at the following addresses:

HAB and Hypoxia Experts, and Interested Parties (February 9, 2016)—Go to https://fda.webex.com/fda/j.php?MTID=mbab594f49aa3fd9079e28d7fb0aac9ef.

Password: Habsnhypoxia.

To view in other time zones or languages, please click the link: https://fda.webex.com/fda/j.php?MTID=ma18e7fb8caad3a87838d169114ea5e9b.

To join the teleconference only:

Provide your number when you join the meeting to receive a call back.

Alternatively, you can call one of the following numbers:

Local: 1-301-796-7777.

Toll free: 1-855-828-1770.

Follow the instructions that you hear on the phone.

Your Cisco Unified MeetingPlace meeting ID: 741 106 359.

Interested Parties (February 10, 2016)—Go to https://fda.webex.com/fda/j.php?MTID=m1cab022ca28021cff02e6a4830ed26fd.

Password: Habsnhypoxia.

To view in other time zones or languages, please click the link: https://fda.webex.com/fda/j.php?MTID=m492a55451b0adb8dc2ed1eb7d87137c5.

To join the teleconference only:

Provide your number when you join the meeting to receive a call back.

Alternatively, you can call one of the following numbers:

Local: 1-301-796-7777.

Toll free: 1-855-828-1770.

Follow the instructions that you hear on the phone.

Your Cisco Unified MeetingPlace meeting ID: 746 444 650.

Interested Parties (as needed; February 11, 2016)—Go to https://fda.webex.com/fda/j.php?MTID=mdee05bbec212d7f605f04b5aa5da5b84.

Password: Habsnhypoxia.

To view in other time zones or languages, please click the link: https://fda.webex.com/fda/j.php?MTID=m319dd1c92e72ada8d0783bcb8562c88d.

To join the teleconference only:

Provide your number when you join the meeting to receive a call back.

Alternatively, you can call one of the following numbers:

Local: 1-301-796-7777.

Toll free: 1-855-828-1770.

Follow the instructions that you hear on the phone.

Your Cisco Unified MeetingPlace meeting ID: 743 466 568.

Public Participation: The webinars will be town hall-style discussions open to the public. Persons wishing to attend the meeting online via the webinar must register in advance no later than 5 p.m. Eastern Time on the evening before each webinar, by sending an email to Caitlin.Gould@noaa.gov. The number of webinar connections available for the meetings is limited to 500 participants and will therefore be available on a first-come, first-served basis. It is recommended that interested participants call in approximately 10 minutes prior to the beginning of each webinar, to ensure that their computer systems accommodate WebEx. The agenda for the webinars will include time for town hall-style discussion or comments about the agencies' efforts in implementing HABHRCA, including concerns and needs related to HABs and hypoxia in the Great Lakes.

FOR FURTHER INFORMATION CONTACT: Caitlin Gould (Caitlin.gould@noaa.gov, 240-533-0290) or Stacey DeGrasse (Stacey.Degrasse@fda.hhs.gov, 240-402-1470).

Other Information: Paperwork Reduction Act: Notwithstanding any other provision of law, no person is required to respond to, nor shall any person be subject to a penalty for failure to comply with a collection of information subject to the requirements of the Paperwork Reduction Act, unless that collection displays a currently valid OMB Control Number.

SUPPLEMENTARY INFORMATION:

Correction

The National Oceanic and Atmospheric Administration published a document in the Federal Register of January 7, 2016, entitled Interagency Working Group on the Harmful Algal Bloom and Hypoxia Research and Control Amendments Act. The information concerning the webinar dates and WebEx information have been updated.

Dated: January 6, 2016.
Mary C. Erickson,
Director, National Centers for Coastal Ocean Science, National Ocean Service, National Oceanic and Atmospheric Administration.

[FR Doc. 2016-00390 Filed 1-11-16; 8:45 am]

BILLING CODE 3510-22-P